DEPARTMENT OF THE INTERIOR

Bureau of Indian Affairs

[120D0102DR/DS5A300000/DR.5A311.IA000118]

National Tribal Broadband Grant; Solicitation of Proposals

AGENCY: Bureau of Indian Affairs, Interior.

ACTION: Notice.

SUMMARY: The Office of Indian Energy and Economic Development (IEED), Office of the Assistant Secretary—Indian Affairs, is soliciting proposals from Indian Tribes for grant funding to hire consultants to perform feasibility studies for deployment or expansion of high-speed internet (broadband) transmitted, variously, through digital subscriber line (DSL), cable modem, fiber, wireless, satellite and broadband over power lines (BPL).

DATES: Applications will be accepted until 11:59 p.m. EST on Friday, May 8, 2020.

ADDRESSES: Applicants must submit a completed Application for Federal Assistance SF-424 and the Project Narrative Attachment form in a single email to IEEDBroadbandGrants@bia.gov, Attention: Ms. Jo Ann Metcalfe, Certified Grant Specialist, Bureau of Indian Affairs.

FOR FURTHER INFORMATION CONTACT: Mr. James R. West, National Tribal Broadband Grant (NTBG) Manager, Office of Indian Energy and Economic Development, Room 6049-B, 12220 Sunrise Valley Drive, Reston, Virginia 20191; telephone: (202) 595-4766; email: jamesr.west@bia.gov.

SUPPLEMENTARY INFORMATION:

I. General Information

II. Number of Projects Funded

III. Background

IV. Eligibility for Funding

V. Who may Perform Broadband Feasibility Studies Funded by NTBG Grants

VI. Applicant Procurement Procedures

VII. Limitations

VIII. NTBG Application Guidance

IX. Review and Selection Process

X. Evaluation Criteria

XI. Transfer of Funds

XII. Reporting Requirements for Award Recipients

XIII. Questions and Requests for IEED Assistance

XIV. Separate Document(s)

XV. Authority

I. General Information

Award Ceiling: 50,000

Award Floor: 40,000

CFDA Number: 15.032

Cost Sharing or Matching Requirement: No

Number of Awards: 25-30

Category: Communications

II. Number of Projects Funded

IEED anticipates award of approximately twenty-five (25) to thirty (30) grants under this announcement ranging in value from approximately $40,000 to $50,000. The program can only fund projects one year at a time. IEED will use a competitive evaluation process based on criteria described in the Review and Selection Process section at section IX of this notice.

III. Background

The Office of the Assistant Secretary—Indian Affairs, through IEED, is soliciting proposals from Indian Tribes, as defined at 25 U.S.C. 5304(e), for grant funding to hire consultants to perform feasibility studies for deployment or expansion of high-speed internet (broadband) transmitted, variously, through DSL, cable modem, fiber, wireless, satellite and BPL.

NTBG grants may be used to fund an assessment of the current broadband services, if any, that are available to an applicant's community; an engineering assessment of new or expanded broadband services; an estimate of the cost of building or expanding a broadband network; a determination of the transmission medium(s) that will be employed; identification of potential funding and/or financing for the network; and consideration of financial and practical risks associated with developing a broadband network.

The purpose of the NTBG is to improve the quality of life, spur economic development and commercial activity, create opportunities for self-employment, enhance educational resources and remote learning opportunities, and meet emergency and law enforcement needs by bringing broadband services to Native American communities that lack them.

Feasibility studies funded through NTBG will assist Tribes to make informed decisions regarding deployment or expansion of broadband in their communities.

IEED administers this program through its Division of Economic Development (DED), which is located at 1849 C Street NW, MIB-4138, Washington, DC 20240.

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding

Only Indian Tribes, as defined at 25 U.S.C. 5304(e), are eligible for NTBG grants: “`Indian tribe' means any Indian tribe, band, nation, or other organized group or community, including any Alaska Native village or regional or village corporation as defined in or established pursuant to the Alaska Native Claims Settlement Act (85 Stat.688) [43 U.S.C. 1601 et seq.], which is recognized as eligible for the special programs and services provided by the United States to Indians because of their status as Indians . . .”

V. Who May Perform Broadband Feasibility Studies Funded by NTBG Grants

The applicant determines who will conduct its broadband feasibility study. An applicant has several choices, including but not limited to:

• Universities and colleges;

• Private consulting firms; or

• Non-academic, non-profit entities.

VI. Applicant Procurement Procedures

The applicant is subject to the procurement standards under 2 CFR 200.318 through 200.326. In accordance with 2 CFR 200.318, an applicant must use its own documented procurement procedures which reflect tribal laws and regulations, provided that the procurements conform to applicable Federal law and standards identified in Part 2 of the Code of Federal Regulations.

VII. Limitations

NTBG grant funding must be expended in accordance with applicable statutory and regulatory requirements, including 2 CFR part 200. As part of the grant application review process, IEED may conduct a review of an applicant's prior IEED grant awards(s).

Applicants that are currently under BIA sanction Level 2 or higher resulting from non-compliance with the Single Audit Act are ineligible for a NTBG award. Applicants at Sanction Level 1 will be considered for funding.

An applicant may submit more than one grant application. For example, an applicant may submit an application to study the cost of expanding broadband access at its tribally operated schools and a separate application to assess whether broadband services may be installed in an isolated region of its community. However, applications should address one project and any submissions that contain multiple project proposals will not be considered. IEED will apply the same objective ranking criteria to each proposal.

The purpose of NTBG grants is to fund broadband feasibility studies only. NTBG awards may not be used for:

• Establishing or operating a Tribal office;

• Indirect costs or administrative costs as defined by the Federal Acquisition Regulation (FAR);

• Purchase of equipment that is used to develop the feasibility studies, such as computers, vehicles, field gear, etc. (however, leasing of this type of equipment for the purpose of developing feasibility studies is allowed);

• Creating Tribal jobs to complete the project. An NTBG grant is not intended to create temporary administrative jobs or supplement employment for Tribal members;

• Legal fees;

• Application fees associated with permitting;

• Training;

• Contract negotiation fees; and

• Any other activities not authorized by the grant award letter.

VIII. NTBG Application Guidance

All NTBG applicants must use the standard forms Application for Federal Assistance SF-424 and the Project Narrative Attachment Form. These forms can be found at www.grants.gov. A complete proposal must contain the five mandatory components as described below.

Step 1. Complete the Application for Federal Assistance SF-424

Instructions To Download the Application for Federal Assistance SF-424

1. Go to www.grants.gov.

2. Select the “forms” tab. This will open a page with a table titled “SF-424 FAMILY FORMS.”

3. Under the column “Agency Owner,” third row down, is listed, Grants.gov -Application for Federal Assistance SF-424.

4. Click on the blue PDF letters to download the three-page document.

Application for Federal Assistance SF-424 (Mandatory Component 1)

Within the Application for Federal Assistance SF-424, please complete the following sections:

• Item 8a. Applicant Information—Legal Name (of School).

• Item 8b.

• Item 8c.

• Item 8d. Address.

• Item 8f. Name and contact information of person to be contacted on matters involving this application.

• Item 9. Select I: Indian/Native American Tribal Government (Federally Recognized).

• Item 11. CFDA Title box-Type in the numbers: 15.031.

• Item 12. Title box-Type in: IEED Broadband Grant.

• Item 15. Descriptive Title of Applicant's Project. Type in short description of proposal.

• Item 21. Read certification statement. Check “agree” box.

• Authorized Representative section: Complete all boxes except “signature of authorized representative.” Be sure to type in the tribal leader's information. Be sure to include the Tribal leader's preferred title (Governor, President, Chairman, etc.).

Save the Application for Federal Assistance SF-424 and name the file using the following format: Tribal Name Broadband Grant Application SF-424.

Example for naming the SF-424 Application for Federal Assistance file: Pueblo of Laguna Broadband Grant Application SF-424.

Step 2. Prepare the Project Narrative, Budget, Critical Information Documents, and Obtain a Tribal Resolution

Project Narrative (Mandatory Component 2)

The Project Narrative must not exceed 15 pages. At a minimum, it should include:

• A technical description of the project, including identifying any existing broadband feasibility information. The proposed new study should not duplicate previous work;

• A description of the project objectives and goals, including a description of the areas in which broadband will be deployed or expanded, short and long term benefits of broadband deployment or expansion, and how the feasibility study will meet the goals of the NTBG;

• Deliverable products that the consultant is expected to generate, including interim deliverables (such as status reports and technical data to be obtained) and final deliverables (the feasibility study); and

• Resumes of key consultants and personnel to be retained, if available, and the names of subcontractors, if applicable. This information may be included as an attachment to the application and will not be counted towards the 15-page limitation.

In addition, where applicable, the Project Narrative Attachment Form, referenced below, must contain a description of the consultant(s) the applicant wishes to retain, including the consultant's contact information, technical expertise, training, qualifications, and suitability to undertake the feasibility study. This may be included as an attachment to the Project Narrative and will not be counted toward the 15-page limitation.

Project Narratives are not judged based on their length. Please do not submit any attachments or documents beyond what is listed above, e.g., Tribal history.

Budget Narrative (Mandatory Component 3)

The Budget Narrative should consist of a one-page, detailed budget estimate in Excel format with applicable attachments listed below. The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents.

• Travel costs should be itemized by airfare, vehicle rental, lodging, and per diem, based on the current Federal government per diem schedule.

• Data collection and analysis costs should be itemized in sufficient detail for the IEED review committee to evaluate the charges.

• Other Expenses may include computer rental, report generation, drafting, and advertising costs for a proposed project.

Critical Information Page (Mandatory Component 4)

Applicants must include a critical information page that includes:

• Project Manager's contact information.

• DUNS number.

• An active ASAP number.

• Counties where the project is located.

• Congressional District number where the project is located.

Tribal Resolution Attachment (Mandatory Component 5)

Applicants must include as an attachment to their application a Tribal resolution issued in the fiscal year of the grant application, authorizing the submission of a FY 2020 NTBG grant application. It must be signed by authorized Tribal representative(s). The Tribal resolution must also include:

• A description of the feasibility study to be developed; and

• An explicit reference to the Project Narrative being submitted.

Step 3. Prepare the Project Narrative Attachment Form for Submission

Note: Mandatory components 2-5 must be submitted using the Project Narrative Attachment Form.

Instructions To Download the Project Narrative Attachment Form

• Go to www.grants.gov.

• Select the “forms” tab. This will open a page within the table titled “SF-424 FAMILY FORMS.”

• Under the column “Agency Owner” three quarters down the table (52nd row), is listed, Grants.gov—Project Narrative Attachment Form.

• Click on the blue PDF letters to download the one page document.

When the applicant has successfully downloaded the Project Narrative Attachment Form, follow the next steps to upload documents:

• On the Project Narrative Attachment Form, click on the button titled “Add Project Narrative File.”

• Select the Project Narrative that you want to upload and click “open” to upload the file.

• On the same Project Narrative Attachment Form, you will find a grey button titled “Add Optional Project Narrative File.” Use this button to upload the Budget Narrative, Critical Information Page, and the Tribal Resolution as attachments.

When the applicant has completed uploading the Project Narrative and the attachments (Budget, Tribal Resolution, and Critical Information Page) to the Project Narrative Attachment Form, the applicant will save and name the file using the following format: Tribal Name Broadband Grant Attachments.

Example for naming the Project Narrative Attachment Form file: Pueblo of Laguna Broadband Grant Attachments.

Step 4. Submitting the Completed NTBG Grant Proposal

Applicants must submit the Application for Federal Assistance SF-424 form and the Project Narrative Attachment Form in a single email to IEEDBroadbandGrants@bia.gov, Attention: Ms. Jo Ann Metcalfe, Certified Grant Specialist, Bureau of Indian Affairs.

Applications and mandatory attachments received and date stamped after the time listed in the DATES section of this notice will not be considered by the Awarding Official. IEED will accept applications at any time before the deadline and will send a notification of receipt to the return email address on the application package, along with a determination of whether the application is complete.

Incomplete Applications. Applications submitted without one or more of the four mandatory attachments described above will be returned to the applicant with an explanation. The applicant will then be allowed to correct any deficiencies and resubmit the proposal for consideration on or before the deadline. This option will not be available to an applicant once the deadline has passed.

IX. Review and Selection Process

Upon receiving a NTBG application, IEED will determine whether the application is complete and that the proposed project does not duplicate or overlap previous or currently funded IEED technical assistance projects. Any proposal that is received after the date and time in the DATES section of this notice will not be reviewed. If an application is not complete and the submission deadline has not passed, the applicant will be notified and given an opportunity to resubmit its application.

The IEED Review Committee (Committee), comprised of IEED staff, staff from other federal agencies, and subject matter experts, will evaluate the proposals against the ranking criteria. Proposals will be evaluated using the four criteria listed below, with a maximum achievable total of 100 points.

Final award selections will be approved by the Assistant Secretary—Indian Affairs and the Associate Deputy Secretary, U.S. Department of the Interior. Applicants not selected for award will be notified in writing.

X. Evaluation Criteria

Community Impact Potential: 55 points. This criterion focuses on how deployment or expansion of broadband services will improve the quality of life in the applicant's community, create educational and self-employment opportunities, and benefit the applicant's residents, businesses, commercial activities, schools, libraries, and law enforcement and emergency operations.

Need: 20 points. This criterion focuses on an applicant's lack of capacity to obtain a broadband feasibility study absent grant funding.

Project Location in an Opportunity Zone: 15 points. Points will be awarded for projects located in an Opportunity Zone. An Opportunity Zone is an economically-distressed community where new investments, under certain conditions, may be eligible for preferential tax treatment. See 26 U.S.C. 1400Z-1 and 1400Z-2. A map and list of Opportunity Zones can be found at: https://www.cdfifund.gov/Pages/Opportunity-Zones.aspx.

Authenticity: 10 points. The IEED review committee understands that applicants may intend that the consultant(s) they retain to prepare the broadband proposal will also conduct the feasibility study if the grant is awarded. This does not prejudice an applicant's chances of being selected as a grantee. However, the IEED review committee will view unfavorably proposals that show little evidence of communication between the consultant(s) and the applicant or scant regard for the applicant community's unique circumstances. Facsimile applications prepared by the same consultant(s) and submitted by multiple applicants will receive particular scrutiny in this regard.

NTBG applications will be ranked using only these criteria (as described above):

• Community Impact Potential—55.

• Need—20.

• Project Location in an Opportunity Zone—15.

• Authenticity—10.

• Total—100.

XI. Transfer of Funds

IEED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the Automated Standard Application for Payment (ASAP). All award recipients are required to have a current and accurate DUNS number to receive funds. All payments will be deposited to the banking information designated by the applicant in the System for Award Management (SAM).

XII. Reporting Requirements for Award Recipients

The applicant must deliver all products and data required by the signed Grant Agreement for the proposed NTBG feasibility study project to IEED within 30 days of the end of each quarter and 90 days after completion of the project.

IEED requires that deliverable products be provided in both digital format and printed hard copies. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the NTBG funded feasibility study must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions:

Conflicts of Interest

Applicability

• This section intends to ensure that non-Federal entities and their employees take appropriate steps to avoid conflicts of interest in their responsibilities under or with respect to Federal financial assistance agreements.

• In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this gran or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third party evaluation and reproduction of the following:

○ The scientific data relied upon;

○ The analysis relied upon; and

○ The methodology, including models, used to gather and analyze data.

XIII. Questions and Requests for IEED Assistance

IEED staff may provide technical consultation, upon written request by an applicant. The request must clearly identify the type of assistance sought. Technical consultation does not include funding to prepare a grant proposal, grant writing assistance, or pre-determinations as to the likelihood that a proposal will be awarded. The applicant is solely responsible for preparing its grant proposal. Technical consultation may include clarifying application requirements, confirming whether an applicant previously submitted the same or similar proposal, and registration information for SAM or ASAP.

XIV. Separate Document(s)

• Application for Federal Assistance SF-424 Form

• Project Narrative Attachment Form (This form includes the Project Narrative, Budget, Tribal Resolution, and Critical Information page).

XV. Authority

This is a discretionary grant program authorized under the Snyder Act (25 U.S.C.13) and the Further Consolidated Appropriations Act 2020 (Pub. L. 116-94). The Snyder Act authorizes the BIA to expend such moneys as Congress may appropriate for the benefit, care, and assistance of Indians for the purposes listed in the Act. Broadband deployment or expansion facilitates two of the purposes listed in the Snyder Act: “General support and civilization, including education” and “industrial assistance and advancement.” The Further Consolidated Appropriations Act 2020 authorizes the BIA to “carry out the operation of Indian programs by direct expenditure, contracts, cooperative agreements, compacts, and grants, either directly or in cooperation with States and other organizations.”

Dated: December 23, 2019.
Tara Sweeney,
Assistant Secretary—Indian Affairs.

[FR Doc. 2020-02616 Filed 2-7-20; 8:45 am]

BILLING CODE 4337-15-P